DEPARTMENT OF ENERGY

Federal Energy Regulatory Commission

[Docket Nos. EG14-80-000, EG14-81-000, EG14-82-000, et al.]

Notice of Effectiveness of Exempt Wholesale Generator Status

| Docket Nos.
Mountain Creek Power, LLC | EG14-80-000
LaPorte Power, LLC | EG14-81-000
Handley Power, LLC | EG14-82-000
Regulus Solar, LLC | EG14-83-000
Major Oak Power, LLC | EG14-84-000
Green Pastures Wind I, LLC | EG14-85-000
Avalon Solar Partners, LLC | EG14-86-000
Energia Sierra Juarez, S. de R.L. de C.V | EG14-87-000
Energia Sierra Juarez U.S. Transmission, LLC | EG14-88-000
Longhorn Wind Project, LLC | EG14-89-000
TX Hereford Wind, LLC | EG14-90-000
Catalina Solar 2, LLC | EG14-91-000

Take notice that during the month of October 2014, the status of the above-captioned entities as Exempt Wholesale Generators became effective by operation of the Commission's regulations. 18 CFR 366.7(a).

Dated: November 6, 2014.
Kimberly D. Bose,
Secretary.

[FR Doc. 2014-26962 Filed 11-13-14; 8:45 am]

BILLING CODE 6717-01-P